DEPARTMENT OF ENERGY

Federal Energy Regulatory Commission

[Project No. 9100-036]

Riverdale Power and Electric Company, Inc.; Notice Soliciting Applications

On May 31, 2012, Riverdale Power and Electric Company, Inc. (Riverdale or licensee) filed a Notice of Intent (NOI) to file an application for an exemption from licensing for its Riverdale Mills Project, No. 9100, pursuant to section 16.19(b) of the Commission's regulations. The existing license for Project No. 9100 expires on May 31, 2017.

The Riverdale Mills Project currently operates with a capacity of 150-kilowatts (kW); however, in its NOI, the licensee indicated that it intends to increase capacity to 420 kW. The project is located on the Blackstone River, in the town of Northbridge, Worcester County, Massachusetts. The project does not occupy any federal lands.

The principal project works consist of: (1) A 10-foot-high, 142-foot-long dam with 6 bays containing stoplogs and flashboards with a crest elevation of 262.35 feet above mean sea level; (2) an 11.8-acre impoundment; (3) three sluiceways; (4) a 150-kilowatt turbine-generator unit located in a mill building; (5) a 231-foot-long tailrace; and (6) appurtenant facilities.

Pursuant to section 16.20(c) of the Commission's regulations, an existing licensee with a minor license not subject to sections 14 and 15 of the Federal Power Act must file an application for a subsequent license at least 24 months prior to the expiration of the current license. As stated above, Riverdale's NOI indicated it would be filing an application for an exemption from licensing; however, it did not file an application for a subsequent license or an application for exemption from licensing for the Riverdale Mills Project by the May 31, 2015, deadline. Therefore, pursuant to section 16.24(b)(2) of the Commission's regulations, Riverdale is prohibited from filing an application either individually or in conjunction with other entities for the Riverdale Mills Project.

Pursuant to section 16.25 of the Commission's regulations, we are soliciting applications from potential applicants other than the existing licensee. Interested parties have 90 days from the date of this notice to file a NOI to file an application for a subsequent license or exemption from licensing. An application for subsequent license or exemption for the Riverdale Mills Project (No. 9100) must be filed within 18 months of the date of filing the NOI.

Questions concerning this notice should be directed to Dr. Nicholas Palso at (202) 502-8854 or nicholas.palso@ferc.gov.

Dated: June 11, 2015.
Kimberly D. Bose,
Secretary.

[FR Doc. 2015-14873 Filed 6-16-15; 8:45 am]

BILLING CODE 6717-01-P